DEPARTMENT OF COMMERCE

National Oceanic and Atmospheric Administration

RIN 0648-XV92

Marine Mammals; File No. 14610

AGENCY: National Marine Fisheries Service (NMFS), National Oceanic and Atmospheric Administration (NOAA), Commerce.

ACTION: Notice; issuance of permit amendment.

SUMMARY: Notice is hereby given that the Alaska Department of Fish and Game (ADFG), Division of Wildlife Conservation, Juneau, AK (Principal Investigator: Lori Quakenbush) has been issued a minor amendment to Scientific Research Permit No. 14610-03.

ADDRESSES: The amendment and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Courtney Smith or Brendan Hurley; phone: (301) 427-8401.

SUPPLEMENTARY INFORMATION: The requested amendment has been granted under the authority of the Marine Mammal Protection Act of 1972, as amended (16 U.S.C. 1361 et seq.) and the regulations governing the taking and importing of marine mammals (50 CFR part 216).

The current permit (No. 14610-03), issued on August 11, 2014 (75 FR 30383) authorized vessel and aerial surveys, photo-identification, remote biopsy and instrument attachment research activities on beluga (Delphinapterus leucas), endangered bowhead (Balaena mysticetus), gray (Eschrictius robustus), and endangered humpback whales (Megaptera novaeangliae) through May 31, 2015. The minor amendment (No. 14610-04) extends the duration of the permit by one year through May 31, 2016, but does not change any other terms or conditions of the permit.

Dated: June 10, 2015.
Julia Harrison,
Chief, Permits and Conservation Division, Office of Protected Resources, National Marine Fisheries Service.

[FR Doc. 2015-14753 Filed 6-15-15; 8:45 am]

BILLING CODE 3510-22-P